DEPARTMENT OF COMMERCE

Minority Business Development Agency

Proposed Information Collection; Comment Request; Online Customer Relationship Management (CRM)/Performance Databases, the Online Phoenix Database, and the Online Opportunity Database

AGENCY: Minority Business Development Agency (MBDA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 30, 2015.

ADDRESSES: Direct all written comments to Sheleen Dumas, Departmental Paperwork Clearance Officer, Department of Commerce, Room 6616, 14th and Constitution Avenue NW., Washington, DC 20230 (or via the Internet at sdumas@doc.gov).

FOR FURTHER INFORMATION CONTACT: Requests for additional information or copies of the information collection instrument and instructions should be directed to Nakita Chambers, Program Manager, Minority Business Development Agency, U.S. Department of Commerce, Office of Business Development, 1401 Constitution Avenue NW., Washington, DC 20230, (202) 482-0065, and email: nchambers@mbda.gov.

SUPPLEMENTARY INFORMATION:

I. Abstract

As part of its national service delivery system, MBDA awards cooperative agreements each year to fund the provision of business development services to eligible minority business enterprises (MBEs). The recipient of each cooperative agreement is competitively selected to operate one of the MBDA's Business Center programs. In accordance with the Government Performance Results Act (GPRA), MBDA requires all center operators to report basic client information, service activities and progress on attainment of program goals via the Online CRM/Performance database. The data inputs into the CRM/Performance database originate from the client intake forms used by each center to collect information from each minority business enterprise that receives technical business assistance from the center. This data provides the baseline from which the CRM/Performance database is populated. The Online CRM/Performance Database is used to regularly monitor and evaluate the progress of the MBDA funded centers, to provide the Department and OMB with a summary of the quantitative information required to be submitted about government supported programs, and to implement the GPRA. This information is also summarized and included in the MBDA Annual Performance Report, which is made available to the public.

In addition to the information collected from MBEs to provide service and performance reports, the MBDA Center award recipients are required to list MBEs to conduct business in the United States in the Online Phoenix Database. This listing is used to match those registered MBEs with opportunities entered in the Online Opportunity Database by public and private sector entities. The MBEs may also self-register via the Online Phoenix Database for notification of potential business opportunities.

In 2012, the overall estimate of burden hours decreased for users under the newly adopted program structure as a result of the streamlining of certain administrative and reporting requirements. The MBDA Business Center programs will continue to use the Customer Relationship Management/Performance, Phoenix and Business Opportunity databases until the new program is redesigned during Fiscal Year 2016.

Revision: In Fiscal Year 2015, MBDA has developed a new client intake and customer transaction forms for use in the business center program. The new forms include a statement regarding MBDA's intended use by MBDA and transfer of the information collected to other federal agencies for the purpose of conducting research and studies on minority businesses.

The following new information will be provided on the MBDA Client Engagement Form: By submitting this form, your company agrees to allow the Minority Business Development Agency (MBDA) in Washington, D.C. to share this document, information contained therein, and any supplementary material provided by your company (collectively “Client Engagement Form”) on an as needed basis, with other United States Government agencies to carry out appropriate due diligence and more effectively advocate for your interests. The Client Engagement Form also may be used by MBDA and MBDA Business Centers for the purposes of conducting research, studies, and analysis consistent with the MBDA mission as stated in Executive Order 11625. The Client Engagement Form is considered business confidential and will not be shared with any other person or organization outside the U.S. Government unless the MBDA Headquarters is given permission to do so by your company. All business confidential information will be protected from disclosure to the extent permitted by law.

The following new information will be provided on the Client Transaction Form: By submitting this form, your company agrees to allow the Minority Business Development Agency (MBDA) in Washington, D.C. to share this document, information contained therein, and any supplementary material provided by your company (collectively “Verification Form”) on an as needed basis, with other United States Government agencies to carry out appropriate due diligence and more effectively advocate for your interests. The Verification Form also may be used by MBDA and MBDA Business Centers for the purposes of conducting research, studies, and analysis consistent with the MBDA mission as stated in Executive Order 11625. The Verification Form is considered business confidential and will not be shared with any other person or organization outside the U.S. Government unless the MBDA Headquarters is given permission to do so by your company. All business confidential information will be protected from disclosure to the extent permitted by law.

II. Method of Collection

Information will be collected manually and electronically.

III. Data

OMB Control Number: 0640-0002.

Form Number(s): 0640-002.

Type of Review: Regular submission (revision and extension of currently approved information collection).

Affected Public: Individuals or households; Business or other for-profit organizations; Not-for-profit institutions; State, Local, or Tribal government; Federal government.

Estimated Number of Respondents: 2,633.

Estimated Time per Response: 1 minute to 210 minutes, depending upon function.

Estimated Total Annual Burden Hours: 4,516.

Estimated Total Annual Cost to Public: 0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 26, 2015.
Glenna Mickelson,
Management Analyst, Office of the Chief Information Officer.

[FR Doc. 2015-21454 Filed 8-28-15; 8:45 am]

BILLING CODE 3510-21-P